DEPARTMENT OF STATE

[Public Notice: 12283]

Notice of Receipt of Request From the Government of the Republic of India Under Article 9 of the 1970 UNESCO Convention on the Means of Prohibiting and Preventing the Illicit Import, Export and Transfer of Ownership of Cultural Property

ACTION: Public notice.

SUMMARY: Notice of receipt of request from India for cultural property protection.

FOR FURTHER INFORMATION CONTACT: Anne Compton, Cultural Heritage Center, Bureau of Educational and Cultural Affairs (telephone: 202-632-6301; e-email: culprop@state.gov). Include “India” in the subject line.

SUPPLEMENTARY INFORMATION: The Government of the Republic of India made a request to the Government of the United States on September 12, 2023, under Article 9 of the 1970 UNESCO Convention on the Means of Prohibiting and Preventing the Illicit Import, Export and Transfer of Ownership of Cultural Property. India's request seeks U.S. import restrictions on archaeological and ethnological materials representing India's cultural patrimony. The Cultural Heritage Center website provides instructions for public comment and additional information on the request, including categories of material that may be included in import restrictions: https://eca.state.gov/highlight/cultural-property-advisory-committee-meeting-january-30-february-1-2024. This notice is published pursuant to authority vested in the Assistant Secretary of State for Educational and Cultural Affairs and pursuant to 19 U.S.C. 2602(f)(1).

Allison R. Davis Lehmann,
Executive Director, Cultural Property Advisory Committee, Bureau of Educational and Cultural Affairs, Department of State.

[FR Doc. 2023-27322 Filed 12-12-23; 8:45 am]

BILLING CODE 4710-05-P